DEPARTMENT OF COMMERCE

Foreign-Trade Zones Board

[B-16-2018]

Foreign-Trade Zone (FTZ) 61—San Juan, Puerto Rico; Authorization of Production Activity; Janssen Ortho LLC; (Pharmaceuticals); Gurabo, Puerto Rico

On February 27, 2018, Janssen Ortho LLC submitted a notification of proposed production activity to the FTZ Board for its facility within Subzone 61N, in Gurabo, Puerto Rico.

The notification was processed in accordance with the regulations of the FTZ Board (15 CFR part 400), including notice in the Federal Register inviting public comment (83 FR 10838-10839, March 13, 2018). On June 27, 2018, the applicant was notified of the FTZ Board's decision that no further review of the activity is warranted at this time. The production activity described in the notification was authorized, subject to the FTZ Act and the FTZ Board's regulations, including Section 400.14.

Dated: June 27, 2018.
Elizabeth Whiteman,
Acting Executive Secretary.

[FR Doc. 2018-14182 Filed 6-29-18; 8:45 am]

BILLING CODE 3510-DS-P